DEPARTMENT OF HEALTH AND HUMAN SERVICES

Office of the Secretary

Statement of Organization, Functions, and Delegations of Authority

AGENCY: Office of the Assistant Secretary for Administration, Office of the Secretary, HHS.

ACTION: Notice.

The Department of Health and Human Services (HHS)/Office of the Secretary (OS)/Office of the Assistant Secretary for Administration (ASA) has modified its organizational structure. This notice provides an updated Statement of Organization, Functions, and Delegations of Authority for the Office of the Assistant Secretary for Administration, last amended at 82 FR 49385, dated October 25, 2017. The statement fully replaces “Part A, Chapter AJ,” and “Part P” and supersedes all previous Statements of Organization, Functions, and Delegations of Authority related to ASA (“Part A, Chapter AJ”, including “Part P,” formally realigning PSC within ASA at “Part A, Chapter AJ”).

1. ASA Statement of Organization

The ASA is the Secretary's principal advisor on all aspects of business and administrative operations at HHS. The ASA's office is a Staff Division (StaffDiv) that supports human resources, acquisitions, information technology, physical and cyber security, financial management, real property, labor relations, equal employment opportunity, employee health, and other shared services. ASA's Standard Administrative Code (SAC) is AJ.

2. ASA Functions

ASA consists of six (6) components that report directly to the ASA, with the following summarized functions:

• Office of Human Resources (OHR) (AJA)

○ OHR provides human resources and human capital support fostering and promoting an engaged, talented, and diverse workforce that advances the health and wellbeing of the American people. Part of OHR is the National Labor and Employee Relations Office (NLERO). NLERO provides strategic, technical advice and consulting services in core labor relations (LR) and employee relations (ER) policy areas to HHS leadership and senior labor and employee practitioners through each Operating Division (OpDiv), which have collectively eight unions (and numerous local chapters).

• Office of Equal Employment Opportunity and Strategic Engagement and Partnerships (EEOSEP) (AJB)

○ The HHS Office of Equal Employment Opportunity and Strategic Engagement and Partnerships (EEOSEP) is dedicated to fostering a dynamic workplace where all employees can thrive. This office combines the critical functions of ensuring equal employment opportunity (EEO) and forging strategic partnerships that supports talent management by fostering a fair and inclusive workplace that values employee development.

• ASA Immediate Office (ASAIO) (AJC)

○ ASAIO provides direct support for ASA initiatives and internal functions, working to coordinate across ASA components and reduce siloing. This work includes budget, communications, ASA-wide talent management and human resource priorities, and project management on key initiatives. ASAIO is the lead for ASA's Continuity of Operations (COOP) program. ASAIO also oversees correspondence.

• Office of the Chief Information Officer (OCIO) (AJD)

○ OCIO provides: (1) assistance and guidance on the use of technology-supported business process reengineering; (2) investment analysis; (3) performance measurement; (4) strategic development and application of information systems and infrastructure; (5) policies to provide improved management of information resources and technology; and (6) better, more efficient service to our clients and employees.

○ OCIO is led by the HHS Chief Information Officer, who reports directly to the HHS Deputy Secretary. The CIO serves as the primary IT leader for the Department and advises the ASA on matters related to IT.

• Program Support Center (PSC) (AJE)

○ PSC provides value-added, cost effective, and innovative mission support solutions to foster government efficiency while helping customer agencies achieve mission-critical results. PSC is a federal shared service organization, providing over 40 shared services to our customers, which include both HHS Divisions and other federal agencies. PSC helps its customers achieve mission-critical results within their organizations. PSC provides support services that include Financial Management, Federal Occupational Health, Real Estate, Security and General Administrative Support.

• Office of Acquisition Management Services (OAMS) (AJF)

○ OAMS provides value-added acquisition services in support of HHS customer missions in a timely manner, at reasonable cost, and in compliance with acquisition statutes, regulations, and policies. The vision of OAMS is to support the HHS mission, program objectives, and public trust by fostering a partnership between the contracting workforce, program representatives, and other acquisition stakeholders to ensure products and services are acquired at best value.

3. ASA Delegations of Authority

The Secretary has delegated the authorities for all administrative functions, including the authority to oversee all administrative functions across all HHS OpDivs and StaffDivs to the ASA. These authorities are to administer the functions summarized in the above section, which include but are not limited to authorities for: human resources, acquisitions, information technology, physical and cyber security, financial management, real property, labor relations, equal employment opportunity, employee health, and other shared services. The ASA re-delegates these authorities internally to ASA components and externally to HHS OpDivs/StaffDivs as needed.

4. Authority To Post Notice

44 U.S.C. 3101, as delegated to the ASA.

Cheryl Campbell,
Assistant Secretary for Administration.

[FR Doc. 2025-00382 Filed 1-8-25; 8:45 am]

BILLING CODE 4151-17-P